DEPARTMENT OF HEALTH AND HUMAN SERVICES

National Institutes of Health

Center for Scientific Review; Amended Notice of Meeting

Notice is hereby given of a change in the meeting of the Clinical Neuroscience and Neurodegeneration Study Section, February 10, 2020, 8:00 a.m. to February 11, 2020 at the National Institutes of Health, Rockledge II, 6701 Rockledge Drive, Bethesda, MD 20892, which was published in the Federal Register on January 17, 2020, 85 FR 3063.

The meeting will be held at the Bethesda Marriott Suites, 6711 Democracy Boulevard, Bethesda, MD 20817. The meeting date and time remain the same. The meeting is closed to the public.

Dated: January 31, 2020.
Miguelina Perez,
Program Analyst, Office of Federal Advisory Committee Policy.

[FR Doc. 2020-02276 Filed 2-5-20; 8:45 am]

BILLING CODE 4140-01-P